GULF COAST ECOSYSTEM RESTORATION COUNCIL

[Docket Number: 101242018-111-02]

Notice of Funding Availability: Council-Selected Restoration Component 2017 Funded Priorities List for Comprehensive Plan Commitment and Planning Support

AGENCY: Gulf Coast Ecosystem Restoration Council.

ACTION: Notice.

SUMMARY: The Gulf Coast Ecosystem Restoration Council (Council) announces the Notice of Funding Availability for the Council-Selected Restoration Component 2017 Funded Priorities List (FPL) for Comprehensive Commitment and Planning Support under the Council-Selected Restoration Component of the Resources and Ecosystems Sustainability, Tourist Opportunities, and Revived Economies of the Gulf Coast States Act of 2012 (RESTORE Act).

DATES: Applications will be accepted until April 30, 2018.

FOR FURTHER INFORMATION CONTACT: Kristin Smith, Council staff, telephone number: 504-444-3558; or email grantsoffice@restorethegulf.gov.

SUPPLEMENTARY INFORMATION: The Council approved the Council-Selected Restoration Component 2017 Funded Priorities List for Comprehensive Plan Commitment and Planning Support (2017 CPS FPL or CPS FPL) on January 24, 2018, authorized under the Council-Selected Restoration Component of the RESTORE Act (33 U.S.C. 1321(t)(2)). The Council has published a Notice of Funding Availability (NOFA) for financial assistance available through the CPS FPL, which provides guidance to Council members on the steps necessary to submit applications for funding to enhance collaboration, coordination, public engagement, and use of best available science needed to make efficient use of Gulf restoration funds resulting from the Deepwater Horizon oil spill. The CPS FPL awards will support the Council's commitment to a coordinated approach to ecosystem restoration, as called for in the Comprehensive Plan Update 2016: Restoring the Gulf Coast's Ecosystem and Economy. The CPS FPL was finalized in September 2017 and was officially approved by the Council in the January 24, 2018 vote. The full text of the NOFA for the CPS FPL awards is available on the Council website at https://www.restorethegulf.gov/sites/default/files/GO-RES_20180124_NOFA_CPS.pdf. To locate the opportunity on www.grants.gov, enter Funding Opportunity Number GCC-FPL-18-001 in the main search box.

Keala J. Hughes,
Director of External Affairs & Tribal Relations, Gulf Coast Ecosystem Restoration Council.

[FR Doc. 2018-01702 Filed 1-29-18; 8:45 am]

BILLING CODE 6560-58-P